DEPARTMENT OF ENERGY

Federal Energy Regulatory Commission

[Docket No. CP22-461-000]

Transcontinental Gas Pipe Line Company, LLC; Notice of Availability of the Draft Environmental Impact Statement for the Proposed Southside Reliability Enhancement Project

The staff of the Federal Energy Regulatory Commission (FERC or Commission) has prepared a draft environmental impact statement (EIS) for the Southside Reliability Enhancement Project (Project), proposed by Transcontinental Gas Pipe Line Company, LLC (Transco) in the above-referenced docket. Transco requests authorization to construct and operate one new compressor station and modify two existing compressor stations and three existing meter stations in North Carolina and Virginia. The Project would provide an incremental 423,400 dekatherms per day (Dth/d) of year-round firm transportation capacity from Transco's Compressor Station 165 and the Pine Needle Storage Facility along the mainline pipeline system to delivery points in North Carolina.

The draft EIS assesses the potential environmental effects of the construction and operation of the Project in accordance with the requirements of the National Environmental Policy Act (NEPA). FERC staff concludes that approval of the proposed Project, with the mitigation measures recommended in the EIS, would result in some adverse environmental impacts; however, impacts would be reduced to less-than-significant levels. Regarding climate change impacts, the Project's construction and operation emissions would increase the atmospheric concentration of greenhouse gases (GHG), in combination with past, present, and future emissions from all other sources. Climate change impacts are not characterized in the EIS as significant or insignificant because the Commission is conducting a generic proceeding to determine whether and how the Commission will conduct significance determinations going forward.¹ The EIS also concludes that no system or other alternative site would meet the Project objective while providing a significant environmental advantage over the Project as proposed.

¹ Consideration of Greenhouse Gas Emissions in Natural Gas Infrastructure Project Reviews, 178 FERC ¶ 61,108 (2022); 178 FERC ¶ 61,197 (2022).

The draft EIS addresses the potential environmental effects of the construction and operation of the following Project facilities:

• installation of a new compressor station (Compressor Station 168) which includes one new 33,000 horsepower electric motor-driven compressor unit, and installation of new mainline valves on South Virginia Lateral A-Line and B-Line at the new Compressor Station 168 in Mecklenburg County, Virginia;

• addition of one 16,000 horsepower electric motor-driven compressor unit at existing Compressor Station 166 in Pittsylvania County, Virginia;

• installation of piping modifications to allow for flow reversal at existing Compressor Station 155 in Davidson County, North Carolina;

• replacement of one meter run to increase delivery volumes at the existing Ahoskie Meter Station in Hertford County, North Carolina;

• installation of new facilities to increase delivery volumes at the existing Pleasant Hill Meter Station in Northampton County, North Carolina; and

• upgrade meter and controls and debottleneck piping at the existing Iredell Meter Station in Iredell County, North Carolina.

The Commission mailed a copy of the Notice of Availability of the draft EIS to federal, state, and local government representatives and agencies; elected officials; environmental and public interest groups; Native American tribes; potentially affected landowners and other interested individuals and groups; and newspapers and libraries in the project area. The draft EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search) select “General Search” and enter the docket number in the “Docket Number” field (i.e. CP22-461-000). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on draft EIS's disclosure and discussion of potential environmental effects, measures to avoid or lessen environmental impacts, and the completeness of the submitted alternatives, information and analyses. To ensure consideration of your comments on the proposal in the final EIS, it is important that the Commission receive your comments on or before 5 p.m. Eastern Time on December 12, 2022.

For your convenience, there are four methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP22-461-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

(4) In lieu of sending written comments, the Commission invites you to attend the virtual public comment session its staff will conduct by telephone, scheduled as follows:

Date and Time

Wednesday November 16, 2022

Time: 6:00-8:00 p.m. Eastern Standard Time

Call in number: 888-957-9871

Participant passcode: 3983900

The primary goal of the comment session is to have you identify specific environmental issues and concerns with the draft EIS. Note that the comment sessions will start at 6:00 p.m. and will end once all participants wishing to comment have had the opportunity to do so, or at 8:00 p.m., whichever comes first. Individual oral comments will be taken one at a time with a court reporter present on the line.

There will be a brief introduction by Commission staff when the session opens, so please attempt to call in at the beginning of the session. All participants will be able to hear the comments provided by other participants; however, all lines will remain closed during the comments of others and then opened one at a time for providing comments. Once you call in, the operator will provide directions on how to indicate you would like to provide a comment. A time limit of 3 minutes may be implemented for each commentor.

Your oral comments will be recorded by the court reporter and become part of the public record for this proceeding. Transcripts of all comments received during the session will be publicly available on FERC's eLibrary system (see comment instructions on page 3 of this notice for instructions on using eLibrary).

It is important to note that the Commission provides equal consideration to all comments received, whether filed in written form or provided orally at a virtual comment session.

Any person seeking to become a party to the proceeding must file a motion to intervene pursuant to Rule 214 of the Commission's Rules of Practice and Procedures (18 CFR part 385.214). Motions to intervene are more fully described at https://www.ferc.gov/ferc-online/ferc-online/how-guides. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: October 21, 2022.
Kimberly D. Bose,
Secretary.

[FR Doc. 2022-23414 Filed 10-26-22; 8:45 am]

BILLING CODE 6717-01-P